DEPARTMENT OF ENERGY

Federal Energy Regulatory Commission

Combined Notice of Filings

Take notice that the Commission has received the following Natural Gas Pipeline Rate and Refund Report filings:

Filings Instituting Proceedings

Docket Numbers: RP17-1082-000.

Applicants: Enable Mississippi River Transmission, LLC.

Description: 2017 Annual Penalty Revenue Credit Filing of Enable Mississippi River Transmission, LLC.

Filed Date: 9/25/17.

Accession Number: 20170925-5020.

Comments Due: 5 p.m. ET 11/27/17.

Docket Numbers: RP18-164-000.

Applicants: Equitrans, L.P.

Description: § 4(d) Rate Filing: Negotiated Rate Service Agreement—Mercuria 11-16-2017 to be effective 11/16/2017.

Filed Date: 11/16/17.

Accession Number: 20171116-5084.

Comments Due: 5 p.m. ET 11/28/17.

Docket Numbers: RP18-165-000.

Applicants: Alliance Pipeline L.P.

Description: § 4(d) Rate Filing: Contract Extensions October 31 2017 to be effective 11/16/2017.

Filed Date: 11/16/17.

Accession Number: 20171116-5152.

Comments Due: 5 p.m. ET 11/28/17.

Docket Numbers: RP18-166-000.

Applicants: Gulf South Pipeline Company, LP.

Description: § 4(d) Rate Filing: Amendment to Neg Rate Agmt (Pivotal 34691-15) to be effective 11/17/2017.

Filed Date: 11/17/17.

Accession Number: 20171117-5000.

Comments Due: 5 p.m. ET 11/29/17.

Docket Numbers: RP18-167-000.

Applicants: Energy Corporation of America,Greylock Production, LLC.

Description: Request for Temporary Waiver and Expedited Action of Energy Corporation of America, et al.

Filed Date: 11/16/17.

Accession Number: 20171116-5159.

Comments Due: 5 p.m. ET 11/27/17.

Docket Numbers: RP17-397-001.

Applicants: Dominion Energy Transmission, Inc.

Description: Compliance filing DETI—Nonconforming Service Agreement Compliance Filing to be effective 6/1/2017.

Filed Date: 11/17/17.

Accession Number: 20171117-5025.

Comments Due: 5 p.m. ET 11/29/17.

Docket Numbers: RP18-168-000.

Applicants: Gulf South Pipeline Company, LP.

Description: § 4(d) Rate Filing: Amendment to Neg Rate Agmt (Virginia Natural 34695-15) to be effective 11/17/2017.

Filed Date: 11/17/17.

Accession Number: 20171117-5001.

Comments Due: 5 p.m. ET 11/29/17.

Docket Numbers: RP18-169-000.

Applicants: Texas Eastern Transmission, LP.

Description: § 4(d) Rate Filing: Negotiated Rates—NJ Natural 910230 eff 11-17-2017 to be effective 11/17/2017.

Filed Date: 11/17/17.

Accession Number: 20171117-5045.

Comments Due: 5 p.m. ET 11/29/17.

Docket Numbers: RP18-170-000.

Applicants: Texas Eastern Transmission, LP.

Description: § 4(d) Rate Filing: Negotiated Rates—Spotlight Energy 911468 eff 11-17-2017 to be effective 11/17/2017.

Filed Date: 11/17/17.

Accession Number: 20171117-5061.

Comments Due: 5 p.m. ET 11/29/17.

Docket Numbers: RP18-171-000.

Applicants: Horizon Pipeline Company, L.L.C.

Description: § 4(d) Rate Filing: Elgin Energy Center Negotiated Rate Filing to be effective 12/1/2017.

Filed Date: 11/17/17.

Accession Number: 20171117-5062.

Comments Due: 5 p.m. ET 11/29/17.

Docket Numbers: RP18-172-000.

Applicants: WBI Energy Transmission, Inc.

Description: § 4(d) Rate Filing: 2017 Non-Conforming Service Agreement FT-1285—Rainbow to be effective 11/17/2017.

Filed Date: 11/17/17.

Accession Number: 20171117-5078.

Comments Due: 5 p.m. ET 11/29/17.

Docket Numbers: RP18-173-000.

Applicants: Texas Eastern Transmission, LP.

Description: § 4(d) Rate Filing: Bayway Lateral Project In-Service Filing CP16-473 to be effective 12/20/2017.

Filed Date: 11/17/17.

Accession Number: 20171117-5119.

Comments Due: 5 p.m. ET 11/29/17.

Docket Numbers: RP18-174-000.

Applicants: Enable Mississippi River Transmission, LLC.

Description: § 4(d) Rate Filing: Non-Conforming Negotiated Rate Agreements—WRB to be effective 1/1/2018.

Filed Date: 11/17/17.

Accession Number: 20171117-5129.

Comments Due: 5 p.m. ET 11/29/17.

Docket Numbers: RP18-175-000.

Applicants: Alliance Pipeline L.P.

Description: § 4(d) Rate Filing: Warranty of Title November 2017 to be effective 12/18/2017.

Filed Date: 11/17/17.

Accession Number: 20171117-5133.

Comments Due: 5 p.m. ET 11/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2017.
Nathaniel J. Davis, Sr.,
Deputy Secretary.

[FR Doc. 2017-25580 Filed 11-27-17; 8:45 am]

BILLING CODE 6717-01-P